EXPORT-IMPORT BANK

[Public Notice: 2018-3015]

Agency Information Collection Activities: Final Collection; Comment Request

AGENCY: Export-Import Bank of the United States.

ACTION: Submission for OMB review and comments request.

SUMMARY: The Export-Import Bank of the United States (EXIM), as a part of its continuing effort to reduce paperwork and respondent burden, invites the general public and other Federal Agencies to comment on the proposed information collection, as required by the Paperwork Reduction Act of 1995.

This form is to be completed by EXIM borrowers as required under EXIM Credit Guarantee Facility (CGF) transactions in conjunction with a borrower's request for disbursement for U.S. goods and services. It is used to summarize disbursement documents submitted with a borrower's request and to calculate the requested financing amount. It will enable EXIM lenders to identify the specific details of the amount of disbursement requested for approval to ensure that the financing request is complete and in compliance with EXIM's disbursement requirements.

DATES: Comments should be received on or before September 28, 2018 to be assured of consideration.

ADDRESSES: Comments may be submitted electronically on WWW.REGULATIONS.GOV (EIB 18-02) or by mail to Office of Information and Regulatory Affairs, 725 17th Street NW, Washington, DC 20038 Attn: EXIM form (EIB 18-02). The information collection tool can be reviewed at: https://www.exim.gov/sites/default/files/pub/pending/eib18-02_itemized_statement_of_payments-us_costs_for_exim_cgf_-_final.xlsx.

SUPPLEMENTARY INFORMATION:

Titles and Form Number: EIB 18-02 Itemized Statement of Payments—US Costs for EXIM Credit Guarantee Facility.

OMB Number: XXXX-XXXX.

Type of Review: NEW.

Need and Use: The information collected will assist in determining compliance of disbursement requests for U.S. goods and services submitted to EXIM lenders under CGF transactions.

Affected Public: This form affects EXIM borrowers involved in financing U.S. goods and services under CGF transactions.

Annual Number of Respondents: 12.

Estimated Time per Respondent: 150 minutes.

Annual Burden Hours: 30 hours.

Frequency of Reporting or Use: As needed.

Government Expenses: None.

This form is submitted by the borrower to the CGF lender for review. The lender reports information regarding the disbursement electronically to EXIM using OMB Number 3048-0046 CGF (EIB 12-02) Disbursement Approval Request Report.

Bassam Doughman,
IT Specialist.

[FR Doc. 2018-18698 Filed 8-28-18; 8:45 am]

BILLING CODE 6690-01-P